UNITED STATES SENTENCING COMMISSION

Sentencing Guidelines for United States Courts

AGENCY: United States Sentencing Commission.

ACTION: Request for public comment on the membership of a standing victims advisory group; requests to be considered for initial membership; and proposed amendment to the Sentencing Commission's Rules of Practice and Procedure.

SUMMARY: After considering the request of the Judicial Conference of the United States regarding the formation of a victims advisory group, the United States Sentencing Commission has decided to establish a standing victims advisory group pursuant to 28 U.S.C. 995 and Rule 5.4 of the Commission's Rules of Practice and Procedure. The purpose of the advisory group is (1) to assist the Commission in carrying out its statutory responsibilities under 28 U.S.C. 994(o); (2) to provide the Commission its views on the Commission's activities as they relate to victims of crime; (3) to disseminate information regarding sentencing issues to organizations represented by the advisory group and to other victims of crime and victims advocacy groups, as appropriate; and (4) to perform any other functions related to victims of crime as the Commission requests. The Commission anticipates that the victims advisory group will consist of not more than 9 members, each of whom may serve not more than two consecutive 3-year terms. The Commission also anticipates establishing a charter for the victims advisory group to govern the group's activities.

The Commission hereby requests comment on the potential membership of the victims advisory group. The Commission also invites any person or group who has knowledge, expertise, or experience in the area of federal crime victimization to apply to become a member of the advisory group. Requests to be considered for the initial membership of the victims advisory group must be received by the Commission not later than July 30, 2007. Applications may be sent to Michael Courlander at the address listed below.

The Commission also hereby gives notice of a proposed amendment to its Rules of Practice and Procedure, at Rule 5.4, to include the victims advisory group as a standing advisory group of the Commission.

DATES: Public comment should be received not later than July 30, 2007.

ADDRESSES: Send comments to: United States Sentencing Commission, One Columbus Circle, NE., Suite 2-500, South Lobby, Washington, DC 20002-8002, Attention: Public Affairs-Amendment of Rules Comment.

FOR FURTHER INFORMATION CONTACT: Michael Courlander, Public Affairs Officer, Telephone: (202) 502-4590.

SUPPLEMENTARY INFORMATION: Section 995(a)(1) of title 28, United States Code, authorizes the Commission to establish general policies and promulgate rules and regulations as necessary for the Commission to carry out the purposes of the Sentencing Reform Act of 1984. The Commission originally adopted the Rules of Practice and Procedure in July 1997 and most recently amended the Rules in November 2001. A new amendment is now proposed. In accordance with Rule 1.2 of its Rules of Practice and Procedure, the Commission hereby invites the public to provide comment on the proposed amendment. In response to a request from the Judicial Conference of the United States, the Commission has decided to establish a standing advisory group related to the impact of the federal sentencing guidelines on victims. The Commission requests comment on the potential membership of such advisory group and invites any person or group who has knowledge, expertise, or experience in the area of federal crime victimization to request consideration for initial membership to the advisory group.

Authority: 28 U.S.C. 994(a), (o), (p); USSC Rules of Practice and Procedure 1.2, 5.2.

Ricardo H. Hinojosa,
Chair.

1. Amendment:

Rule 5.4 of the Rules of Practice and Procedure of the United States Sentencing Commission is amended by striking “and the Probation Officers Advisory Group” and inserting “, the Probation Officers Advisory Group, and the Victims Advisory Group”.

[FR Doc. E7-11804 Filed 6-18-07; 8:45 am]

BILLING CODE 2211-01-P